DEPARTMENT OF HOMELAND SECURITY

U.S. Customs and Border Protection

[OMB Control Number 1651-0NEW]

Agency Information Collection Activities; New Collection; Forced Labor Portal/Forced Labor Case Management System (CMS)

AGENCY: U.S. Customs and Border Protection (CBP), Department of Homeland Security.

ACTION: 60-Day notice and request for comments.

SUMMARY: The Department of Homeland Security, U.S. Customs and Border Protection (CBP) will be submitting the following information collection request to the Office of Management and Budget (OMB) for review and approval in accordance with the Paperwork Reduction Act of 1995 (PRA). The information collection is published in the Federal Register to obtain comments from the public and affected agencies.

DATES: Comments are encouraged and must be submitted (no later than June 7, 2024) to be assured of consideration.

ADDRESSES: Written comments and/or suggestions regarding the item(s) contained in this notice must include the OMB Control Number 1651-0NEW in the subject line and the agency name. Please submit written comments and/or suggestions in English. Please use the following method to submit comments:

Email. Submit comments to: CBP_PRA@cbp.dhs.gov.

FOR FURTHER INFORMATION CONTACT: Requests for additional PRA information should be directed to Seth Renkema, Chief, Economic Impact Analysis Branch, U.S. Customs and Border Protection, Office of Trade, Regulations and Rulings, 90 K Street NE, 10th Floor, Washington, DC 20229-1177, telephone number 202-325-0056 or via email CBP_PRA@cbp.dhs.gov. Please note that the contact information provided here is solely for questions regarding this notice. Individuals seeking information about other CBP programs should contact the CBP National Customer Service Center at 877-227-5511, (TTY) 1-800-877-8339, or CBP website at https://www.cbp.gov/.

SUPPLEMENTARY INFORMATION: CBP invites the general public and other Federal agencies to comment on the proposed and/or continuing information collections pursuant to the Paperwork Reduction Act of 1995 (44 U.S.C. 3501 et seq.). This process is conducted in accordance with 5 CFR 1320.8. Written comments and suggestions from the public and affected agencies should address one or more of the following four points: (1) whether the proposed collection of information is necessary for the proper performance of the functions of the agency, including whether the information will have practical utility; (2) the accuracy of the agency's estimate of the burden of the proposed collection of information, including the validity of the methodology and assumptions used; (3) suggestions to enhance the quality, utility, and clarity of the information to be collected; and (4) suggestions to minimize the burden of the collection of information on those who are to respond, including through the use of appropriate automated, electronic, mechanical, or other technological collection techniques or other forms of information technology, e.g., permitting electronic submission of responses. The comments that are submitted will be summarized and included in the request for approval. All comments will become a matter of public record.

Overview of This Information Collection

Title: Forced Labor Portal/Forced Labor Case Management System (CMS).

OMB Number: 1651-0NEW.

Form Number: N/A.

Current Actions: New Collection.

Type of Review: New Collection.

Affected Public: Businesses, Individuals.

Abstract: U.S. Customs and Borders Protection (CBP) has created a new Forced Labor Portal/Forced Labor Case Management System (CMS). Currently, information regarding potential forced labor and trade violations are electronically submitted via the e-Allegations website at: https://www.cbp.gov/trade/e-allegations/.

Submissions from petitioners for revocation and modification requests are submitted by email to ForcedLabor@cbp.dhs.gov (and through the BOX program and the Case Management System—CMS). Exception review information is sent to UFLPAInquiry@cbp.dhs.gov mailbox via email with multiple zip files.

Applicability review information is sent to various ports of entry or any of the ten Centers of Excellence and Expertise via email with multiple zip files or shared secured folders.

The new Forced Labor Portal/Forced Labor CMS will consolidate the various above-mentioned methods of submission into one centralized location, increasing efficiency and reducing the burden of collection to both CBP and the public.

U.S. Customs and Border Protection (CBP) enforces section 307 of the Tariff Act of 1930 (19 U.S.C. 1307), which states that “all goods, wares, articles, and merchandise mined, produced, or manufactured wholly or in part in any foreign country by convict labor or/and forced labor or/and indentured labor under penal sanctions shall not be entitled to entry at any of the ports of the United States, and the importation thereof is hereby prohibited. . .”

In addition, the Trade Facilitation and Trade Enforcement Act of 2015 (TFTEA) (Pub. L. 114-125), signed into law on February 24, 2016, removed the “consumptive demand clause” for the enforcement of 19 U.S.C. 1307, and mandated CBP to create a division to oversee forced labor enforcement and create a process for the investigation of allegations.

CBP also enforces the Countering America's Adversaries Through Sanctions Act (CAATSA) (Pub. L. 115-44 (August 2, 2017), (22 U.S.C. 9241a)) where goods produced by North Korean nationals or citizens are presumed to be produced under forced labor and are prohibited from entering the U.S. commerce under 19 U.S.C. 1307.

Recently, the Uyghur Forced Labor Prevention Act (UFLPA) (Pub. L. 117-78 (December 23, 2021)) established that any goods produced wholly or in part in the Xinjiang Uyghur Autonomous Region (XUAR) of China, or by entities on the UFLPA Entity List are presumed to be made with forced labor and thus prohibited from importation into the U.S. under 19 U.S.C. 1307. This law allows for the collection of supply chain documentation to substantiate that forced labor was not used in the production of imported goods under an exception review or UFLPA does not apply to the detained shipment under an applicability review.

Sections 12.42 through12.45 of title 19 of the Code of Federal Regulations (CFR) contain methods for CBP to collect information on forced labor, conduct investigations, and initiate withhold release orders (WRO) or findings to enforce 19 U.S.C. 1307 as well as allow for the collection of information from importers on detained shipments for admissibility review under a WRO.

Individuals, companies (domestic and international), civil society organizations, and nongovernmental organizations may submit allegations of forced labor, request for admissibility, applicability, and exception reviews with CBP under these laws and regulations.

Type of Information Collection: Allegations.

Estimated Number of Respondents: 200.

Estimated Number of Annual Responses per Respondent: 1.

Estimated Number of Total Annual Responses: 200.

Estimated Time per Response: 10 minutes.

Estimated Total Annual Burden Hours: 34.

Type of Information Collection: WRO Admissibility Reviews.

Estimated Number of Respondents: 1900.

Estimated Number of Annual Responses per Respondent: 1.

Estimated Number of Total Annual Responses: 1900.

Estimated Time per Response: 30 minutes.

Estimated Total Annual Burden Hours: 950.

Type of Information Collection: Modifications/Revocations.

Estimated Number of Respondents: 25.

Estimated Number of Annual Responses per Respondent: 1.

Estimated Number of Total Annual Responses: 25.

Estimated Time per Response: 10 minutes.

Estimated Total Annual Burden Hours: 4.

Type of Information Collection: UFLPA Exception Requests.

Estimated Number of Respondents: 4.

Estimated Number of Annual Responses per Respondent: 1.

Estimated Number of Total Annual Responses: 4.

Estimated Time per Response: 30 minutes.

Estimated Total Annual Burden Hours: 2.

Type of Information Collection: UFLPA Applicability Reviews.

Estimated Number of Respondents: 1500.

Estimated Number of Annual Responses per Respondent: 1.

Estimated Number of Total Annual Responses: 1500.

Estimated Time per Response: 30 minutes.

Estimated Total Annual Burden Hours: 750.

Type of Information Collection: CAATSA Exception Reviews.

Estimated Number of Respondents: 2.

Estimated Number of Annual Responses per Respondent: 1.

Estimated Number of Total Annual Responses: 2

Estimated Time per Response: 10 minutes.

Estimated Total Annual Burden Hours: 0.33.

Dated: April 3, 2024.
Seth D. Renkema,
Branch Chief, Economic Impact Analysis Branch, U.S. Customs and Border Protection.

[FR Doc. 2024-07381 Filed 4-5-24; 8:45 am]

BILLING CODE 9111-14-P